DEPARTMENT OF HEALTH AND HUMAN SERVICES

Centers for Disease Control and Prevention

[Docket No. CDC-2017-0084, NIOSH-298]

Draft—National Occupational Research Agenda for Construction

AGENCY: National Institute for Occupational Safety and Health (NIOSH), Centers for Disease Control and Prevention (CDC), Department of Health and Human Services (HHS).

ACTION: Request for Comments.

SUMMARY: As steward of the National Occupational Research Agenda (NORA), the National Institute for Occupational Safety and Health of the Centers for Disease Control and Prevention announces the availability of the draft National Occupational Research Agenda for Construction for public comment. Written by the NORA Construction Sector Council, the Agenda identifies the most important occupational safety and health research needs for the next decade, 2016-2026. A copy of the draft Agenda is available at https://www.regulations.gov (search Docket Number CDC-2017-0084).

DATES: Electronic or written comments must be received by November 27, 2017.

ADDRESSES: You may submit comments, identified by Docket No. CDC-2017-0084 and docket number NIOSH-298, by any of the following methods:

• Federal eRulemaking Portal: https://www.regulations.gov. Follow the instructions for submitting comments.

• Mail: National Institute for Occupational Safety and Health, NIOSH Docket Office, 1090 Tusculum Avenue, MS C-34, Cincinnati, Ohio 45226-1998.

Instructions: All submissions received must include the agency name and Docket Number [CDC-2017-0084; NIOSH-298]. All relevant comments received will be posted without change to https://regulations.gov, including any personal information provided. For access to the docket to read background documents or comments received, go to https://www.regulations.gov.

FOR FURTHER INFORMATION CONTACT: Emily Novicki (NORACoordinator@cdc.gov), National Institute for Occupational Safety and Health, Centers for Disease Control and Prevention, Mailstop E-20, 1600 Clifton Road NE., Atlanta, GA 30329, phone (404) 498-2581 (not a toll free number).

SUPPLEMENTARY INFORMATION: The National Occupational Research Agenda (NORA) is a partnership program created to stimulate innovative research and improved workplace practices. The national agenda is developed and implemented through the NORA sector and cross-sector councils. Each council develops and maintains an agenda for its sector or cross-sector.

The National Occupational Research Agenda for Construction is intended to identify the research, information, and actions most urgently needed to prevent occupational injuries and illnesses in the construction sector. The National Occupational Research Agenda for Construction provides a vehicle for industry stakeholders to describe the most relevant issues, gaps, and safety and health needs for the sector. Each NORA research agenda is meant to guide or promote high priority research efforts on a national level, conducted by various entities, including: Government, higher education, and the private sector.

The first National Occupational Research Agenda for Construction was published in 2008 for the second decade of NORA (2006-2016). This draft is an updated agenda for the third decade of NORA (2016-2026). The revised agenda was developed considering new information about injuries and illnesses, the state of the science, and the probability that new information and approaches will make a difference. As the steward of the NORA process, NIOSH invites comments on the draft National Occupational Research Agenda for Construction. A copy of the draft Agenda is available at https://www.regulations.gov (see Docket Number CDC-2017-0084, NIOSH-298).

John Howard,
Director, National Institute for Occupational Safety and Health, Centers for Disease Control and Prevention.

[FR Doc. 2017-20605 Filed 9-26-17; 8:45 am]

BILLING CODE 4163-18-P